DEPARTMENT OF HEALTH AND HUMAN SERVICES

Indian Health Service

American Indians Into Psychology; Notice of Competitive Grant Applications for American Indians Into Psychology Program

Funding Opportunity Number: HHS-IHS-PSYCH-2004-0001.

CFDA Number: 93.970.

Key Dates:

Application Deadline: August 13, 2004.

Application Review: August 19, 2004.

Application Notification: August 25, 2004.

Anticipated Award Start Date: September 20, 2004.

I. Funding Opportunity Description

The Indian Health Service (IHS) announces that competitive grant applications are being accepted for the American Indians Into Psychology Program. These grants are established under the authority of section 217 of the Indian Health Care Improvement Act, Pub. L. 94-437, as amended by Pub. L. 102-573. The purpose of the Indians into Psychology program is to augment the number of Indian health professional serving Indians by encouraging Indians to enter the health professions and removing the multiple barriers to their entrance into IHS and private practice among Indians. This program is described at 93.970 in the Catalog of Federal Domestic Assistance. Costs will be determined in accordance with applicable Office of Management and Budget Circulars. The Public Health Service (PHS) is committed to achieving the health promotion and disease prevention objectives of Healthy People 2010, a PHS-led activity for setting priority areas.

This program announcement is related to the priority area of Educational and Community-based programs. Potential applicants may obtain a copy of Healthy People 2010, summary report in print, Stock No. 017-001-00547-9, or via CD-ROM, Stock No. 107-001-00549-5, through the Superintendent of Documents, Government Printing Office, P.O. Box 371954, Pittsburgh, PA 15250-7945, (202) 512-1800. You may access this information via the Internet at the following Web site: http://www.health.gov/healthypeople/publication.

The Public Health Service strongly encourages all grant and contract recipients to provide a smoke-free workplace and promote the non-use of all tobacco products. In addition, Pub. L. 103-227, the Pro-Children Act of 1994, prohibits smoking in certain facilities (or in some cases, any portion of the facility) in which regular or routine education, library, day care, health care, or early childhood development services are provided to children. This is consistent with the PHS mission to protect and advance the physical and mental health of the American people.

II. Award Information

The Indians into Psychology program has been appropriated $686,994 for Fiscal Year (FY) 2004. It is anticipated that approximately $250,000.00 per year will be available for a three year award. The anticipated start date of the grant will be September 20, 2004, in order to begin recruitment for the 2004-2005 academic year. Projects will be awarded for a budget term of 12 months, with a maximum project period of up to three (3) years. Grant funding levels include both direct and indirect costs. Funding of succeeding years will be based on the FY 2004 level, continuing need for the program, satisfactory performance, and the availability of appropriations in those years.

III. Eligibility Information

1. Eligible Applicants

Public and nonprofit private colleges and universities are eligible to apply for a grant. However, only one grant will be awarded and funded to a college or university per funding cycle.

2. Cost Sharing/Matching

This announcement does not require matching funds or cost sharing to participate in the competitive grant process.

3. Other Requirements

Required Affiliations—The grant applicant must submit official documentation indicating a Tribe's cooperation with and support of the program within the schools on its reservation and its willingness to have a Tribal representative serving on the program advisory board. Documentation must be in the form prescribed by the Tribes governing body, i.e., letter of support or Tribal resolution. Documentation must be submitted from every Tribe involved in the grant program.

IV. Application and Submission Information

1. Address To Request Application Package

An IHS Grant Application Kit, including the required PHS 5161-1 (Rev. 7/00) (OMB Approval No. 0920-0428) and the U.S. Government Standard forms (SF-424, SF-424A and SF-424B), may be obtained from the Grants Management Branch, Division of Acquisition and Grants Management, Indian Health Service, 801 Thompson Avenue, Suite 120, Rockville, Maryland 20852, telephone (301) 443-5204. (This is not a toll-free number.)

2. Content and Form of Application Submission

All applications must be single-spaced, typewritten, and consecutively numbered pages using black type not smaller than 12 characters per one inch, with conventional one inch border margins, on only one side of standard size 8.5 x 11 paper that can be photocopied. The application narrative (not including the appendix) must not exceed 15 typed pages as described above. An additional page may be used for each additional year of funding requested. All applications must include the following in the order presented:

• Standard Form 424, Application for Federal Assistance.

• Standard Form 424A, Budget Information-Non-Construction Programs and instructions (pages 1-4).

• Standard for 424B, Assurances-Non-Construction Programs.

• Project Narrative (not to exceed 15 pages).

1. Introduction and potential Effectiveness of Project.

2. Project Administration.

3. Accessibility to Target Population.

4. Relationship of Objectives to Manpower Deficiencies.

5. Project Budget.

• Brief Multi-Year Narratives and Budgets—Limited to one page for each additional year of funding.

• Appendix.

Abstract—An abstract may not exceed one typewritten page.

The abstract should clearly present the application in summary form, from a “who-what-when-where-how-cost” point of view so that reviewers see how the multiple parts of the application fit together to form a coherent whole.

Table of Contents—Provide a one page typewritten table of contents.

3. Submission Dates and Times

Application Receipt Date—An original and two (2) copies of the completed grant application must be submitted with all required documentation to the Grants Management Branch, Division of Acquisitions and Grants Management, 801 Thompson Avenue, Suite 120, Rockville, Maryland 20852, by close of business August 13, 2004. Applications shall be considered as meeting the deadline if they are either: (1) Received on or before the deadline with hand-carried applications received by close of business 5 p.m., or (2) postmarked on or before the deadline date and received in time to be reviewed along with all other timely applications. A legibly dated receipt from a commercial carrier or the U.S. Postal Service will be accepted in lieu of a postmark. Private metered postmarks will not be accepted as proof of timely mailing. Late applications not accepted for processing will be returned to the applicant and will not be considered for funding.

4. Intergovernmental Review

Executive Order 12372 requiring intergovernmental review is not applicable to this program.

5. Funding Restrictions

Maximum award amount is $250,000 per year.

6. Other Submission Requirements

Beginning October 1, 2003, applicants were required to have a Dun and Bradstreet (DUNS) number to apply for a grant or cooperative agreement from the Federal Government. The DUNS number is a nine-digit identification number which uniquely identifies business entities. Obtaining a DUNS number is easy and it is free of charge.

To obtain a DUNS number, access http://www.dunandbradstreet.com or call 1-866-705-5711. Internet applications for a DUNS number may take up to 30 days to process. Interested parties may wish to obtain one by phone to expedite the process. The following information is needed when requesting a DUNS number:

• Organization name.

• Organization address.

• Organization telephone number.

• Name of CEO, Executive Director, President, etc.

• Legal structure of the organization.

• Year organization started.

• Primary business (activity) line.

• Total number of employees.

V. Application Review Information

The instructions for preparing the application narrative also constitute the evaluation criteria for reviewing and scoring the application. Weights assigned to each section are noted in parentheses.

1. Criteria

Introduction and Potential Effectiveness of Project (30 pts.)

a. Describe your legal status and organization.

b. State specific objectives of the project, which are measurable in terms of being quantified, significant to the needs of Indian people, logical, complete and consistent with the purpose of section 217.

c. Describe briefly what the project intends to accomplish. Identify the expected results, benefits, and outcomes or products to be derived from each objective of the project.

d. Provide a project specific workplan (milestone chart) which list each objective, the tasks to be conducted in order to reach the objective, and the time frame needed to accomplish each task. Time frames should be projected in a realistic manner to assure that the scope of work can be completed within each budget period. (A work plan format is provided.)

e. In the case of proposed projects for identification of Indians with a potential for education or training in the health professions, include a method for assessing the potential of interested Indians for undertaking necessary education or training in such health professions.

f. State clearly the criteria by which the project's progress will be evaluated and by which the success of the project will be determined.

g. Explain the methodology that will be used to determine if the needs, goals, and objectives identified and discussed in the application are being met and if the results and benefits identified are being achieved.

h. Identify who will perform the evaluation and when.

Project Administration (20 pts.)

a. Provide an organizational chart and describe the administrative, managerial and organizational arrangements and the facilities and resources to be utilized to conduct the proposed project (include in appendix).

b. Provide the name and qualifications of the project director of other individuals responsible for the conduct of the project; the qualifications of the principlal staff carrying out the project; and a description of the manner in which the application's staff is or will be organized and supervised to carry out the proposed project. Include biographical sketches of key personnel (or job descriptions if the position is vacant) (include in appendix).

c. Describe any prior experience in administering similar projects.

d. Discuss the commitment of the organization, i.e., although not required, the level of non-Federal support. List the intended financial participation, if any, of the applicant in the proposed project specifying the type of contributions such as cash or services, loans of full or part-time staff, equipment, space, materials or facilities or other contributions.

Accessibility to Target Population (20 pts.)

a. Describe the current and proposed participation of Indians (if any) in your organization.

b. Identify the target Indian population to be served by your proposed project and the relationship of your organization to that population.

c. Describe the methodology to be used to access the target population.

Relationship of Objectives to Manpower Deficiencies (20 pts.)

a. Provide data and supporting documentation to substantiate need for recruitment.

b. Indicate the number of potential Indian students to be contacted and recruited as well as potential cost per student recruited. Those projects that have the potential to serve a greater number of Indians will be given first consideration.

Project Budget (10 pts.)

a. Clearly define the budget. Provide a justification and detailed breakdown of the funding by category for the first year of the project. Information on the project director and project staff should include salaries and percentage of time assigned to the grant. List equipment purchases necessary for the conduct of the project.

b. The available funding level of $250,000 is inclusive of both direct and indirect costs or 8 percent of total direct costs. Because this project is for a training grant, the Department of Health and Human Services' policy limiting reimbursement of indirect cost to the lesser of the applicant's actual indirect costs or 8 percent of total direct costs (exclusive of tuition and related fees and expenditures for equipment) is applicable. This limitation applies to all institutions of higher education other than agencies of State and local government.

c. The applicant may include as a direct cost tuition and student support costs related only to the summer preparatory program. Tuition and stipends for regular sessions are not allowable costs of the grant; however, students recruited through the INPSYCH program may apply for funding from the IHS Scholarship Programs.

d. Projects requiring a second and third year must include a program narrative and categorical budget and justification for each additional year of funding requested (this is not considered part of the 15-page narrative).

Multi-Year Project Requirements

Applications must include a narrative, budget, and budget justification for the second and third years of funding.

Appendix to include:

a. Resumes and position descriptions

b. Organizational Chart

c. Work Plan

d. Tribal Resolution (s) / letters of support

e. Application Receipt Card, IHS-815-1A (Rev. 2/04)

2. Review and Selection Process

Applications meeting eligibility requirements that are complete, responsive, and conform to this program announcement will be reviewed by an Objective Review Committee (ORC) in accordance with IHS objective review procedures. The objective review process ensures a nationwide competition for limited funding. The ORC will be comprised of IHS (40 or less) and other federal or non-federal individuals (60% or more) with appropriate expertise. The ORC will review each application against established criteria. Based upon the evaluation criteria, the reviewer will assign a numerical score to each application, which will be used in making the final funding decision. Approved applications scoring less than 60 points will not be considered for funding.

The results of the review are forwarded to the Director, Office of Management Support (OMS), for final review and approval. The Director, OMS, will also consider the recommendations from the Division of Health Professions Support and Grants Management Branch.

Each proposal must address the following five objectives to be considered for funding:

a. Provides outreach and recruitment for health professions to Indian communities including elementary and secondary schools and community colleges located on Indian reservations which will be served by the program.

b. Incorporates a program advisory board comprised of representatives from the Tribes and communities which will be served by the program.

c. Provides summer preparatory programs for Indian students, who need enrichment in the subjects of math and science in order to pursue training in the health professions.

d. Provides stipends to undergraduate and graduate students to pursue a career in clinical psychology. Stipends for individuals will not be funded during the first year of the project because the first year will involve recruiting individuals. Stipends must be included in the budget and narrative for the second and third years of the project.

e. Develops affiliation agreements with Tribal community colleges, the IHS, university affiliated programs, and other appropriate entities to enhance the education of Indian students.

f. To the maximum extent feasible, utilizes existing university tutoring, counseling and student support services.

g. To the maximum extent feasible, employs qualified Indians in the program.

3. Anticipated Award Dates

The IHS anticipates an awards start date of September 20, 2004.

VI. Award Administration Information

1. Award Notices

Applicants are notified in writing on or about August 25, 2004. A Notice of Grant Award will be issued to successful applicants. Unsuccessful applicants are notified in writing of disapproval. A brief explanation of the reasons the application was not approved is provided along with the name of the IHS official to contact if more information is desired.

2. Administrative and National Policy Requirements

Grants are administered in accordance with the following documents:

• 45 CFR 92, Department of Health and Human Services, Uniform Administrative Requirements for Grants and Cooperative Agreements to State, Local, and Tribal Governments including Indian Tribes or 45 CFR Part 74, Uniform Administration Requirements for Awards and Subawards to Institutions of Higher Education, Hospitals other Nonprofit Organizations, and Commercial Organizations;

• PHS Grants Policy Statement; and

• OMB Circular A-21, Cost Principles for Educational Institutions

3. Reporting

• Progress Report—Program progress reports may be required quarterly or semi-annually. These reports will include a brief description of a comparison of actual accomplishments to the goals established for the period, reasons for slippage and other pertinent information as required. A final report is due 90 days after expiration of the budget/project period.

• Financial Status Report—Quarterly or semiannually financial status reports will be submitted 30 days after the end of the quarter or half year. Final financial status reports are due 90 days after expiration of the budget/project period. Standard Form 269 (long form) will be issued for financial reporting.

VII. Agency Contacts

For program information, contact Marlene Echohawk, Ph.D., Office of Public Health, Division of Clinical and Preventive Services, 801 Thompson Avenue, Suite 120, Rockville, Maryland 20852, (301) 443-2038, or Mr. Michael Berryhill, Office of Management Support, Division of Health Professions Support, 801 Thompson Avenue, Suite 120, Rockville, Maryland, 20852 (301) 443-6197. For grant application and business management information, contact Ms. Martha Redhouse, Grants Management Branch, Indian Health Service, 801 Thompson Avenue, Suite 120, Rockville, Maryland 20852 (301) 443-3396.

Dated: July 2, 2004.
Charles W. Grim,
Assistant Surgeon General, Director, Indian Health Service.

[FR Doc. 04-15715 Filed 7-9-04; 8:45 am]

BILLING CODE 4160-16-P